FEDERAL COMMUNICATIONS COMMISSION

47 CFR Part 73

[MM Docket No. 90-475; RM-7280, RM-7328]

Radio Broadcasting Services; Dawson, GA

AGENCY: Federal Communications Commission.

ACTION: Correcting amendment.

SUMMARY: This document contains a correction to Section 73.202(b), FM Table of Allotments, under Georgia for the community of Dawson.

DATES: Effective March 31, 2004.

FOR FURTHER INFORMATION CONTACT: R. Barthen Gorman, Media Bureau (202) 418-2180.

SUPPLEMENTARY INFORMATION: In 1993, the Commission substituted Channel 251A for Channel 221A at Dawson, Georgia. See 58 FR 36375 (July 7, 1993). Channel 251A is not currently listed in the FM Table of Allotments, Section 73.202(b) under Georgia for the community of Dawson.

Need for Correction

The Code of Federal Regulations must be corrected to add Channel 251A and remove Channel 221A at Dawson, Georgia.

List of Subjects in 47 CFR Part 73

Radio, Radio broadcasting.

Accordingly, 47 CFR part 73 is corrected by making the following correcting amendment:

PART 73—RADIO BROADCAST SERVICES

1. The authority citation for part 73 continues to read as follows:

Authority: 47 U.S.C. 154, 303, 334, and 336.

§ 73.202 [Amended]

2. Section 73.202(b), the Table of FM Allotments under Georgia, is amended by removing Channel 221A and by adding Channel 251A at Dawson.

Federal Communications Commission.
John A. Karousos,
Assistant Chief, Audio Division, Media Bureau.

[FR Doc. 04-7230 Filed 3-30-04; 8:45 am]

BILLING CODE 6712-01-P